DEPARTMENT OF HEALTH AND HUMAN SERVICES

Centers for Disease Control and Prevention

[30Day-23-23CA]

Agency Forms Undergoing Paperwork Reduction Act Review

In accordance with the Paperwork Reduction Act of 1995, the Centers for Disease Control and Prevention (CDC) has submitted the information collection request titled “Vector Surveillance and Control Assessment: Mosquito and Tick Capacities” to the Office of Management and Budget (OMB) for review and approval. CDC previously published a “Proposed Data Collection Submitted for Public Comment and Recommendations” notice on January 18, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Vector Surveillance and Control Assessment: Mosquito and Tick Capacities—New—National Center for Emerging and Zoonotic Infectious Diseases (NCEZID), Centers for Disease Control and Prevention (CDC).

Background and Brief Description

Vector-borne diseases (VBDs) cause significant morbidity and mortality each year in the United States. From 2004-2019, over 800,000 cases of diseases carried by ticks, mosquitoes, and fleas have been reported from U.S. states and territories to the Centers for Disease Control and Prevention (CDC). The number of reported cases has been increasing annually with two major trends: a steady increase in tick-borne diseases and increasing intermittent outbreaks of mosquito-borne arboviruses. CDC expects that the number of vector-borne disease cases in the U.S. will likely increase and that the pathogens have the potential to spread locally, particularly if vector control measures are not taken.

The purpose of this collection is to assess the current capabilities of local vector control organizations to respond to VBDs in their jurisdictions. Specifically, the data collection will: (1) assess existing vector surveillance capabilities at the local level; (2) obtain information on current mosquito abatement and pesticide licensing practices; (3) identify the current technical assistance needs of local vector control organizations; and (4) gather information on current tick programming. CDC and its implementing partner, the National Association of City and County Health Officials, will use the resulting data to inform and support future vector control activities and initiatives at the local level.

CDC requests OMB approval for an estimated 167 total annualized burden hours. There is no cost to respondents other than their time to participate.

Estimated Annualized Burden Hours
Type of respondents | Form name | Number of respondents | Number of responses per respondent | Average burden per response (in hours)
Environmental Science and Protection Technicians | Control Program Questionnaire | 1,109 | 1 | 9/60

Jeffrey M. Zirger,
Lead, Information Collection Review Office, Office of Public Health Ethics and Regulations, Office of Science, Centers for Disease Control and Prevention.

[FR Doc. 2023-10746 Filed 5-18-23; 8:45 am]

BILLING CODE 4163-18-P